DEPARTMENT OF ENERGY

Federal Energy Regulatory Commission

Combined Notice of Filings #1

Take notice that the Commission received the following electric rate filings:

Docket Numbers: ER10-1818-023.

Applicants: Public Service Company of Colorado.

Description: Notice of Change in Status of Public Service Company of Colorado.

Filed Date: 10/28/20.

Accession Number: 20201028-5168.

Comments Due: 5 p.m. ET 11/18/20.

Docket Numbers: ER19-465-004.

Applicants: Midcontinent Independent System Operator, Inc.

Description: Compliance filing: 2020-10-29_Compliance Order 841 Electric Storage Resources to be effective 6/6/2022.

Filed Date: 10/29/20.

Accession Number: 20201029-5016.

Comments Due: 5 p.m. ET 11/19/20.

Docket Numbers: ER19-1864-005.

Applicants: Public Service Company of Colorado.

Description: Compliance filing: 2020-10-29_OATT-Att N-LGIP-Order 845 Comp-0.6.4 to be effective 12/5/2019.

Filed Date: 10/29/20.

Accession Number: 20201029-5172.

Comments Due: 5 p.m. ET 11/19/20.

Docket Numbers: ER20-1062-002.

Applicants: Garden Wind, LLC.

Description: Compliance filing: Garden Wind, LLC, Docket No. ER20-1062-002 to be effective 5/1/2020.

Filed Date: 10/29/20.

Accession Number: 20201029-5026.

Comments Due: 5 p.m. ET 11/19/20.

Docket Numbers: ER20-2280-001.

Applicants: Evergy Metro, Inc.

Description: Compliance filing: Compliance Filing, Electric Interconnection & Delivery Service Agreements to be effective 9/1/2020.

Filed Date: 10/28/20.

Accession Number: 20201028-5147.

Comments Due: 5 p.m. ET 11/18/20.

Docket Numbers: ER20-2331-001.

Applicants: Midcontinent Independent System Operator, Inc.

Description: Compliance filing: 2020-10-28_SA 3511 Deficiency Response ITC Midwest-MEC FSA (J344) to be effective 9/6/2020.

Filed Date: 10/28/20.

Accession Number: 20201028-5091.

Comments Due: 5 p.m. ET 11/18/20.

Docket Numbers: ER20-2333-001.

Applicants: Midcontinent Independent System Operator, Inc.

Description: Compliance filing: 2020-10-28 SA 3523 Deficiency Response ITC-IPL FSA (J438) to be effective 6/30/2020.

Filed Date: 10/28/20.

Accession Number: 20201028-5079.

Comments Due: 5 p.m. ET 11/18/20.

Docket Numbers: ER20-2353-001.

Applicants: Midcontinent Independent System Operator, Inc.

Description: Compliance filing: 2020-10-28_SA 3510 Deficiency Response OTP-GRE FSA (G788) to be effective 8/1/2020.

Filed Date: 10/28/20.

Accession Number: 20201028-5151.

Comments Due: 5 p.m. ET 11/18/20.

Docket Numbers: ER20-2421-001.

Applicants: Midcontinent Independent System Operator, Inc.

Description: Compliance filing: 2020-10-29_SA 3522 Deficiency Response OTP-NSP FSA (J290) to be effective 8/1/2020.

Filed Date: 10/29/20.

Accession Number: 20201029-5005.

Comments Due: 5 p.m. ET 11/19/20.

Docket Numbers: ER21-237-000.

Applicants: Public Service Company of Colorado.

Description: § 205(d) Rate Filing: 2020-10-28_PSCo-IREA-NERC Plnner & Plnng Coord-467-0.0.0 to be effective 1/1/2021.

Filed Date: 10/28/20.

Accession Number: 20201028-5133.

Comments Due: 5 p.m. ET 11/18/20.

Docket Numbers: ER21-238-000.

Applicants: PJM Interconnection, L.L.C.

Description: § 205(d) Rate Filing: Original WMPA, Service Agreement No. 5819; Queue No. AF2-043 to be effective 9/29/2020.

Filed Date: 10/28/20.

Accession Number: 20201028-5134.

Comments Due: 5 p.m. ET 11/18/20.

Docket Numbers: ER21-239-000.

Applicants: Midcontinent Independent System Operator, Inc.

Description: § 205(d) Rate Filing: 2020-10-29_Manual Redispatch Compensation Filing to be effective 1/20/2021.

Filed Date: 10/29/20.

Accession Number: 20201029-5024.

Comments Due: 5 p.m. ET 11/19/20.

Docket Numbers: ER21-240-000.

Applicants: Gulf Power Company.

Description: § 205(d) Rate Filing: Amendments to Service Agreement for Network Integration Transmission Service to be effective 12/31/9998.

Filed Date: 10/29/20.

Accession Number: 20201029-5031.

Comments Due: 5 p.m. ET 11/19/20.

Docket Numbers: ER21-241-000.

Applicants: Southwest Power Pool, Inc.

Description: § 205(d) Rate Filing: Revisions to Attachment W to Update Index of Grandfathered Agreements to be effective 1/1/2021.

Filed Date: 10/29/20.

Accession Number: 20201029-5058.

Comments Due: 5 p.m. ET 11/19/20.

Docket Numbers: ER21-242-000.

Applicants: Entergy Texas, Inc.

Description: § 205(d) Rate Filing: ETI-ETEC Wholesale Distribution Service Agreement to be effective 10/1/2020.

Filed Date: 10/29/20.

Accession Number: 20201029-5065.

Comments Due: 5 p.m. ET 11/19/20.

Docket Numbers: ER21-243-000.

Applicants: San Diego Gas & Electric Company.

Description: § 205(d) Rate Filing: Appendix X Cycle 9 to be effective 1/1/2021.

Filed Date: 10/29/20.

Accession Number: 20201029-5104.

Comments Due: 5 p.m. ET 11/19/20.

Docket Numbers: ER21-244-000.

Applicants: Duke Energy Carolinas, LLC.

Description: § 205(d) Rate Filing: NCMPA1 RS No. 318 Amendment (2021) to be effective 1/1/2021.

Filed Date: 10/29/20.

Accession Number: 20201029-5127.

Comments Due: 5 p.m. ET 11/19/20.

Docket Numbers: ER21-245-000.

Applicants: Michigan Electric Transmission Company, LLC.

Description: § 205(d) Rate Filing: Filing of an Amended Interconnection Facilities Agreement to be effective 12/29/2020.

Filed Date: 10/29/20.

Accession Number: 20201029-5133.

Comments Due: 5 p.m. ET 11/19/20.

Docket Numbers: ER21-246-000.

Applicants: Duke Energy Carolinas, LLC.

Description: Tariff Cancellation: DEC-PMPA RS. No. 340 Cancellation to be effective 1/1/2021.

Filed Date: 10/29/20.

Accession Number: 20201029-5137.

Comments Due: 5 p.m. ET 11/19/20.

Docket Numbers: ER21-247-000.

Applicants: Wisconsin Public Service Corporation.

Description: Tariff Cancellation: Notice of Cancellation of Metering Agent Agreement to be effective 12/31/2020.

Filed Date: 10/29/20.

Accession Number: 20201029-5138.

Comments Due: 5 p.m. ET 11/19/20.

Docket Numbers: ER21-248-000.

Applicants: Southwestern Public Service Company.

Description: § 205(d) Rate Filing: 2020-10-29_SPS-Tx Transp Comn-Utility Agrmt-0.0.0 to be effective 10/30/2020.

Filed Date: 10/29/20.

Accession Number: 20201029-5151.

Comments Due: 5 p.m. ET 11/19/20.

Docket Numbers: ER21-249-000.

Applicants: Southern California Edison Company.

Description: Petition for Waiver of Appendix XI, Transmission Maintenance and Compliance Review, et al. of Southern California Edison Company.

Filed Date: 10/29/20.

Accession Number: 20201029-5167.

Comments Due: 5 p.m. ET 11/19/20.

Docket Numbers: ER21-250-000.

Applicants: Duke Energy Progress, LLC.

Description: Tariff Cancellation: DEP-City of Camden RS No. 197 Cancellation to be effective 1/1/2021.

Filed Date: 10/29/20.

Accession Number: 20201029-5166.

Comments Due: 5 p.m. ET 11/19/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 29, 2020.
Nathaniel J. Davis, Sr.,
Deputy Secretary.

[FR Doc. 2020-24423 Filed 11-3-20; 8:45 am]

BILLING CODE 6717-01-P